DEPARTMENT OF COMMERCE

National Oceanic and Atmospheric Administration

RIN 0648-XG322

Mid-Atlantic Fishery Management Council (MAFMC); Public Meeting

AGENCY: National Marine Fisheries Service (NMFS), National Oceanic and Atmospheric Administration (NOAA), Commerce.

ACTION: Notice; public meeting.

SUMMARY: The Atlantic Mackerel, Squid, and Butterfish Advisory Panel and River Herring and Shad Advisory Panel of the Mid-Atlantic Fishery Management Council (Council) will hold a joint meeting.

DATES: The meeting will be held on Tuesday, July 17, 2018, from 8:30 a.m. to 12:30 p.m. For agenda details, see SUPPLEMENTARY INFORMATION.

ADDRESSES: The meeting will be held via webinar with a telephone-only audio connection to participate: http://mafmc.adobeconnect.com/msb-rh-s/. Telephone instructions are provided upon connecting, or the public can call direct: (800) 832-0736, Rm: *7833942#.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purpose of the meeting is to provide input on the pending framework action that addresses mackerel rebuilding, mackerel specifications, and the river herring and shad cap for the mackerel fishery.

Special Accommodations

The meeting is physically accessible to people with disabilities. Requests for sign language interpretation or other auxiliary aid should be directed to M. Jan Saunders, (302) 526-5251, at least 5 days prior to any meeting date.

Dated: June 27, 2018.
Tracey L. Thompson,
Acting Deputy Director, Office of Sustainable Fisheries, National Marine Fisheries Service.

[FR Doc. 2018-14137 Filed 6-29-18; 8:45 am]

BILLING CODE 3510-22-P